COMMISSION ON CIVIL RIGHTS

Notice of Public Meeting of the North Dakota Advisory Committee; Cancellation

AGENCY: Commission on Civil Rights.

ACTION: Notice; cancellation of meeting.

SUMMARY: The Commission on Civil Rights published a notice in the Federal Register concerning a meeting of the North Dakota Advisory Committee. The meeting scheduled for Wednesday, May 26, 2021 at 11:00 a.m. (ET) is cancelled. The notice is in the Federal Register of Tuesday, April 27, 2021, in FR Doc. 2021-08851, in the first, second and third columns of page 22134 and the second and third columns of page 22135.

FOR FURTHER INFORMATION CONTACT: Evelyn Bohor, (202) 921-2212, ebohor@usccr.gov.

Dated: May 20, 2021.
David Mussatt,
Supervisory Chief, Regional Programs Unit.

[FR Doc. 2021-11043 Filed 5-24-21; 8:45 am]

BILLING CODE P